COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products and services to the Procurement List that will be furnished by nonprofit agencies employing persons who are blind or have other severe disabilities.

DATES: Effective Date: 9/26/2011.

ADDRESSES: Committee for Purchase From People Who Are Blind or Severely Disabled, Jefferson Plaza 2, Suite 10800, 1421 Jefferson Davis Highway, Arlington, Virginia 22202-3259.

FOR FURTHER INFORMATION CONTACT: Patricia Briscoe, Telephone: (703) 603-7740, Fax: (703) 603-0655, or e-mail CMTEFedReg@AbilityOne.gov.

SUPPLEMENTARY INFORMATION:

Additions

On 6/17/2011 (76 FR 35415-35417); 6/24/2011 (76 FR 37069-37070); 7/1/2011 (76 FR 38641-38642); and 7/8/2011 (76 FR 40342-40343), the Committee for Purchase From People Who Are Blind or Severely Disabled published notices of proposed additions to the Procurement List.

After consideration of the material presented to it concerning capability of qualified nonprofit agencies to furnish the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

NSN: 7530-00-NIB-1004—Notebook, Spiral Bound, 100% PCW, 8½x11″, 80 sheets, College Rule, White.

NSN: 7530-00-NIB-1005—Notebook, Spiral Bound, 100% PCW, 8½x11″, 100 sheets, College Rule, White.

NSN: 7530-00-NIB-1007—Notebook, Spiral Bound, 100% PCW, 5x7½″, 80 sheets, College Rule, White.

NSN: 7530-00-NIB-1008—Notebook, Spiral Bound, 100% PCW, 6x9½″, 80 sheets, College Rule, White.

NSN: 7530-00-NIB-1010—Notebook, Spiral Bound, 100% PCW, 6x9½″, 150 sheets, College Rule, White.

NSN: 7530-00-NIB-1011—Notebook, Spiral Bound, 100% PCW, 8½x11″, 200 sheets, College Rule, White.

NSN: 7530-00-NIB-1018—Notebook, Stenographer's, Biobased Begasse Paper, 6x9″, 80 sheets, Gregg Rule, White.

NSN: 7530-00-NIB-1019—Notebook, Spiral Bound, Biobased Begasse Paper, 8x10½″, 70 sheets, College Rule, White.

NSN: 7530-00-NIB-1021—Notebook, Spiral Bound, Biobased Begasse Paper, 8x11″, 100 sheets, College Rule, White.

NSN: 7530-00-NIB-1022—Notebook, Spiral Bound, Biobased Begasse Paper, 6x9½″, 150 sheets, College Rule, White.

NSN: 7530-00-NIB-1024—Notebook, Stenographer's, 100% PCW, 6x9″, 60 sheets, Gregg Rule, White.

NSN: 7530-00-NIB-1025—Notebook, Spiral Bound, 100% PCW, 8x10½″, 70 sheets, Wide Rule, White.

Coverage: A-List for the Total Government Requirement as aggregated by the General Services Administration.

NSN: 7530-00-NIB-1003—Notebook, Memorandum Book, 100% PCW, 3x5″, 60 sheets, Narrow Rule, White.

NSN: 7530-00-NIB-1006—Notebook, Spiral Bound, 100% PCW, 8½x11″, 100 sheets, Wide Rule, White.

NSN: 7530-00-NIB-1009—Notebook, Spiral Bound, 100% PCW, 8½x11″, 120 sheets, College Rule, White.

NSN: 7530-00-NIB-1020—Notebook, Spiral Bound, Biobased Begasse Paper, 5x7 ½″, 80 sheets, College Rule, White.

NSN: 7530-00-NIB-1023—Notebook, Spiral Bound, Biobased Begasse Paper, 8½x11″, 200 sheets, College Rule, White.

Coverage: B-List for the Broad Government Requirement as aggregated by the General Services Administration.

NPA: The Arkansas Lighthouse for the Blind, Little Rock, AR.

Contracting Activity: General Services Administration, New York, NY.

NSN: 7530-01-434-4198—Index Maker, Dividers, 5-Tab, Multi-Color.

NSN: 7530-00-NIB-0916—Index Maker, Dividers, 8-Tab, Multi-Color.

NSN: 7530-00-NIB-0917—Index Maker, Dividers, 5-Tab, White.

NSN: 7530-00-NIB-0918—Index Maker, Dividers, 8-Tab, White.

NSN: 7530-00-NIB-0919—Index Maker, Dividers, 5-Tab, 5 Set Pack, White.

NSN: 7530-00-NIB-0920—Index Maker, Dividers, 8-Tab, 5 Set Pack, White.

NPA: South Texas Lighthouse for the Blind, Corpus Christi, TX. Contracting Activity: General Services Administration, New York, NY.

Coverage: A-List for the Total Government Requirement as aggregated by the General Services Administration.

NSN: 8020-00-NIB-0011—Brush, Paint, Flat Sash, 3″, Silver Filament.

NSN: 8020-00-NIB-0013—Brush, Paint, Angle Sash, 2″, Silver Filament.

NSN: 8020-00-NIB-0014—Brush, Paint, Angle Sash, 2.5″ Silver Filament.

NSN: 8020-00-NIB-0019—Cover, Paint Roller, 9″, Knit Fabric, Extra Strength Core, 1/2″ Nap.

NSN: 8020-00-NIB-0020—Cover, Paint Roller, 9″, Knit Fabric, ⅜″ NAP; High Capacity.

NSN: 8020-00-NIB-0023—Cover, Paint Roller, 9″, Woven fabric, ⅜″ NAP; High Capacity, Professional Grade.

NSN: 8020-00-NIB-0024—Cover, Paint Roller, 9″, Woven fabric, ½″ Nap.

NSN: 8020-00-NIB-0033—Brush, Paint, Flat Sash, 3″, White Filament.

NSN: 8020-00-NIB-0034—Brush, Paint, Angle Sash, 2″, White Filament.

NSN: 8020-00-NIB-0035—Brush, Paint, Angle Sash, 2.5″, White Filament.

NSN: 8020-00-NIB-0039—Frame, Paint roller, Professional Grade.

NSN: 8020-00-NIB-0040—Pole, Extension, Paint 4-8′.

NSN: 8020-00-NIB-0041—Tray, Paint, Plastic, 1 Quart.

NSN: 8020-00-NIB-0042—Liner, Tray, Paint, Plastic, 1 Quart.

NPA: Industries for the Blind, Inc., West Allis, WI.

Contracting Activity: General Services Administration, Kansas City, MO.

Coverage: B-List for the Broad Government Requirement as aggregated by the General Services Administration.

The Committee for Purchase From People Who Are Blind or Severely Disabled (Committee) operates pursuant to statutory and regulatory requirements. The Committee regulation at 41 CFR part 51-2-4 states that for a commodity or service to be suitable for addition to the Procurement List each of the following criteria must be reviewed and determined satisfactory under Committee practice and procedure: employment potential; nonprofit agency qualifications, capability, and level of impact on the current contractor for the commodity or service. The Javits-Wagner-O'Day (JWOD) Act requires that projects added to the Procurement List must be provided by qualified nonprofit agencies that employ people who are blind or severely disabled for not less than 75% of the direct hours required for the production or provision of products or services during each fiscal year.

Comments were received from the 3 contractors that supply these types of products to the Government. Each contractor indicates that loss of the sales of these or similar products would constitute severe adverse impact on their company. However, following Committee procedures, each contractor submitted financial information requested by the Committee in order to determine the impact of adding these products to the Procurement List. Upon review and consideration of the financial data submitted by the contractors, it is determined that, under Committee procedures, the addition of these products will not constitute severe adverse impact. Accordingly, the Committee has decided to add these products to the Procurement List.

Services

Service Type/Location: Custodial Service, Fort Jackson, SC.

NPA: SC Vocations & Individual Advancement, Inc., Greenville, SC.

Contracting Activity: Dept of the Army, W6QM Ft Jackson DOC, Fort Jackson, SC.

Service Type/Locations: Custodial Service:

USDA Forest Service, Chippewa National Forest Supervisor's Office, 200 Ash Avenue, Cass Lake, MN.

USDA Forest Service, Blackduck Ranger District, 417 Forestry Drive, Blackduck, MN.

NPA: Occupational Development Center, Inc., Thief River Falls, MN.

Contracting Activity: Dept of Agriculture, Forest Service, Chippewa National Forest, Cass Lake, MN.

Service Type/Locations: Administrative Services:

HUD—Knoxville Field Office, 710 Locust Street, SW., Knoxville, TN.

HUD—Jackson Field Office, McCoy Federal Building, 100 W. Capitol Street, Jackson, MS.

NPA: Tommy Nobis Enterprises, Inc., Marietta, GA.

Contracting Activity: Dept of Housing and Urban Development, Chicago Regional Office, RCO, Chicago, IL.

Service Type/Location: Custodial Service, Puget Sound Navy Museum, 251 First Avenue, Bremerton, WA.

NPA: Skookum Educational Programs, Bremerton, WA.

Contracting Activity: Dept of the Navy, NAVFAC Northwest, Silverdale, WA.

Service Type/Location: Janitorial Service, Naval Operations Support Center (NOSC), Bldgs. 245 and 247, 5609 Randall Ave., Cheyenne, WY.

NPA: Skils'kin, Spokane, WA.

Contracting Activity: Dept of the Navy, NAVFAC Northwest, Silverdale, WA.

Patricia Briscoe,
Deputy Director, Business Operations, Pricing and Information Management.

[FR Doc. 2011-21922 Filed 8-25-11; 8:45 am]

BILLING CODE 6353-01-P